DEPARTMENT OF TRANSPORTATION

Office of the Secretary

Aviation Proceedings: Agreements Filed During the Week Ending August 4, 2000

The following agreements were filed with the Department of Transportation under the provisions of 49 U.S.C. sections 412 and 414. Answers may be filed within 21 days after the filing of the application.

Docket Number: OST-2000-7720.

Date Filed: August 1, 2000.

Parties: Members of the International Air Transport Association.

Subject:

PAC/Reso/409 dated July 21, 2000

Finally Adopted Resos (r-1 to r-19)

Minutes—PAC/Meet/167 dated July 21, 2000

Intended effective date: October 1, 2000

Docket Number: OST-2000-7722.

Date Filed: August 2, 2000.

Parties: Members of the International Air Transport Association.

Subject:

PTC12 CAN-EUR 0063 dated 2 August 2000

Canada-Europe Expedited Resolutions 002bb and 076ii

Intended effective date: 1 September 2000.

Dorothy Y. Beard,
Federal Register Liaison.

[FR Doc. 00-20451 Filed 8-10-00; 8:45 am]

BILLING CODE 4910-62-P